DEPARTMENT OF THE TREASURY

Alcohol and Tobacco Tax and Trade Bureau

27 CFR Part 9

[Docket No. TTB-2013-0004; Notice No. 135A; Re: Notice No. 135]

RIN 1513-AB96

Proposed Establishment of the Eagle Peak Mendocino County Viticultural Area and Realignments of the Mendocino and Redwood Valley Viticultural Areas; Comment Period Reopening

AGENCY: Alcohol and Tobacco Tax and Trade Bureau, Treasury.

ACTION: Notice of proposed rulemaking; reopening of comment period.

SUMMARY: The Alcohol and Tobacco Tax and Trade Bureau is reopening the comment period for Notice No. 135, Proposed Establishment of the Eagle Peak Mendocino County Viticultural Area and Realignments of the Mendocino and Redwood Valley Viticultural Areas, a notice of proposed rulemaking published in the Federal Register on June 27, 2013. TTB is taking this action in response to a request from an interested party.

DATES: For Notice No. 135, the proposed rule published on June 27, 2013 (78 FR 38618), written comments are now due on or before October 28, 2013.

ADDRESSES: You may send comments on Notice No. 135 to one of the following addresses:

• http://www.regulations.gov (via the online comment form for Notice No. 135 as posted within Docket No. TTB-2013-0004 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200E, Washington, DC 20005.

See the Public Participation section of this notice for specific instructions and requirements for submitting comments, and for information on how to request a public hearing.

You may view copies of the petition, Notice No. 135, selected supporting materials, and all public comments associated with this proposal within Docket No. TTB-2013-0004 at http://www.regulations.gov. You also may view copies of the petition, Notice No. 135, the supporting materials, and all public comments associated with this proposal by appointment at the TTB Information Resource Center, 1310 G Street NW., Washington, DC 20005. Please call 202-453-2270 to make an appointment.

FOR FURTHER INFORMATION CONTACT: Karen A. Thornton, Regulations and Rulings Division, Alcohol and Tobacco Tax and Trade Bureau, 1310 G Street NW., Box 12, Washington, DC 20005; telephone 202-453-1039, ext. 175.

SUPPLEMENTARY INFORMATION: In Notice No. 135, a notice of proposed rulemaking published in the Federal Register on June 27, 2013 (78 FR 38618), the Alcohol and Tobacco Tax and Trade Bureau (TTB) requested public comment on the proposed establishment of the approximately 26,260-acre “Eagle Peak Mendocino County” American viticultural area in northern California. The same document also proposed minor realignments of the existing “Mendocino” (27 CFR 9.93) and “Redwood Valley” (27 CFR 9.153) viticultural areas in order to eliminate any potential overlaps with the proposed Eagle Peak Mendocino County viticultural area. The 60-day comment period for Notice No. 135, originally closed on August 26, 2013.

On August 20, 2013, TTB received a letter from a Washington, DC attorney requesting a 60-day extension of the comment period for Notice No. 135 in order to review the proposal “to ensure that it does not adversely affect any interests related to the requested viticultural area.” (This request is posted as Comment 7 within Docket No. TTB-2013-0004 at www.regulations.gov).

In response to this request, TTB reopens the comment period for Notice No. 135 for an additional 60 days. Therefore, comments on Notice No. 135 are now due on or before October 28, 2013.

Drafting Information

Michael D. Hoover of the Regulations and Rulings Division drafted this notice.

Dated: August 22, 2013.
John J. Manfreda,
Administrator.

[FR Doc. 2013-20950 Filed 8-27-13; 8:45 am]

BILLING CODE 4810-31-P